DEPARTMENT OF COMMERCE

Foreign-Trade Zones Board

[Docket 23-2004]

Foreign-Trade Zone 176: Application for Expansion/Reorganization, Rockford, IL; Amendment of Application

Notice is hereby given that the application of the Greater Rockford Airport Authority, grantee of FTZ 176, for authority to reorganize and expand FTZ 176 in the Rockford, Illinois, area (Doc. 23-2004, 69 FR 30871, 6/1/04), has been amended to include an additional site (Proposed Site 6) at the Rolling Hills Industrial Park (74 acres), located in Woodstock, Illinois. The public comment period is being extended to October 22, 2004, to allow interested parties additional time in which to comment. Rebuttal comments may be submitted until November 5, 2004.

Submissions (original and 3 copies) shall be addressed to the Board's Executive Secretary at one of the following addresses:

1. Submissions via Express/Package Delivery Services: Foreign-Trade Zones Board, U.S. Department of Commerce, Franklin Court Building—Suite 4100W, 1099 14th St., NW., Washington, DC 20005; or

2. Submissions via U.S. Postal Service: Foreign-Trade Zones Board, U.S. Department of Commerce, FCB—Suite 4100W, 1401 Constitution Ave., NW., Washington, DC 20230.

Dated: September 24, 2004.
Dennis Puccinelli,
Executive Secretary.

[FR Doc. 04-22134 Filed 9-30-04; 8:45 am]

BILLING CODE 3510-DS-P